DEPARTMENT OF AGRICULTURE

Natural Resources Conservation Service

Notice of Change

AGENCY: Natural Resources Conservation Service, USDA.

ACTION: Notice of change.

SUMMARY: Pursuant to Section 343 of Subtitle E of the Federal Agriculture Improvement and Reform Act of 1996 (FAIRA) that requires the Secretary of Agriculture to provide public notice and comment under Section 553 of Title 5, United States Code, with regard to any future technical guides that are used to carry out Subtitles A, B, and C of Title XII of the Food Security Act of 1985 (16 U.S.C. 3801 et seq.), the Natural Resources Conservation Service, U.S. Department of Agriculture, gives notice of revisions to applicable conservation practices in Section IV of the Field Office Technical Guides (FOTG) located in Washington State.

The proposed revisions to conservation practices in Section IV of State Technical Guides are subject to these provisions, since one or more could be used as part of a conservation management system to comply with the Highly Erodible Land Conservation or Wetland Conservation requirements.

At this time, fourteen subject conservation practices are being added and/or revised to Section IV of the Washington State FOTG:

□ Conservation Crop Rotation (Acre)

NRCS Code Number 328

□ Contour Farming (Acre)

NRCS Code Number 330

□ Cross Wind Ridges (Acre)

NRCS Code Number 589-A

□ Cross Wind Stripcropping (Acre)

NRCS Code Number 589-B

□ Cross Wind Trap Strips (Acre)

NRCS Code Number 589-C

□ Mulching (Acre)

NRCS Code Number 484

□ Pasture and Hayland Planting (Acre)

NRCS Code Number 512

□ Residue Management—No Till and and Strip Till (Acre)

NRCS Code Number 329-A

□ Residue Management—Mulch Till (Acre)

NRCS Code Number 329-B

□ Residue Management—Ridge Till (Acre)

NRCS Code Number 329-C

□ Residue Management, Seasonal (Acre)

NRCS Code Number 344

□ Stripcropping—Contour (Acre)

NRCS Code Number 585

□ Stripcropping—Field (Acre)

NRCS Code Number 586

□ Surface Roughening (Acre)

NRCS Code Number 609

You may request a copy of the practice standards and provide your comments to: Marty Seamons, Program Support Specialist, USDA Natural Resources Conservation Service, West 316 Boone Avenue, Suite 450, Spokane, WA 99201-2348, (509) 323-2967.

You may also obtain a copy and provide comments by accessing our Internet website. Our Internet address is: http://www.wa.nrcs.usda.gov/nrcs/.

Click on “Field Office Technical Guide” on the left side of the page, then click on “Section IV,” then “Index of Draft Standards and Specifications for Review and Comment,” and finally click on the blue star of the appropriate standard.

Dated: February 2, 2000.
Leonard Jordan,
State Conservationist.

[FR Doc. 00-3869 Filed 2-17-00; 8:45 am]

BILLING CODE 3410-16-M